POSTAL SERVICE

Privacy Act of 1974, Data Comparison Program—Postal Service and Public Sex Offender Registries

AGENCY: Postal Service™.

ACTION: Notice of Data Comparison Program—Postal Service and public sex offender registries via the Dru Sjodin National Sex Offender Public Web site maintained by the Department of Justice.

SUMMARY: The United States Postal Service® (Postal Service) plans to conduct an ongoing data comparison program to identify any current Postal Service employees who are required by law to register on a public registry of sex offenders. These registries contain information about individuals who are statutorily required to register, having committed offenses of sexual violence against adults or children, certain other crimes against victims who are minors, or other comparable offenses. Under the guidelines created by the Adam Walsh Child Protection and Safety Act of 2006 (Walsh Act), the Dru Sjodin National Sex Offender Public Web site (NSOPW) was created and coordinated by the U.S. Department of Justice (DOJ) as a cooperative effort between the agencies hosting public sexual offender registries and the Federal government. The NSOPW is a search tool allowing a user to submit a single national query to obtain information about sex offenders through a number of search options. The Postal Service has procured software that enables it to conduct multiple simultaneous queries of the NSOPW via a secure line to the DOJ NSOPW. The software queries the public registries for each employee and returns a match, if found, to a secured database. No Postal Service employee information is ever shared with the DOJ or stored outside of the Postal Service's control. The Postal Service will compare its payroll database of current employees against public records using the NSOPW search tool. The Postal Service is undertaking this initiative to ascertain the suitability of individuals for certain positions or employment and to protect the integrity of its brand.

DATES: The comparison program will become effective no sooner than 30 days after notice of the comparison program is published in the Federal Register and sent to the DOJ, Congress, and the Office of Management and Budget (OMB). The comparison program will be ongoing.

ADDRESSES: Written comments on this proposal should be mailed or delivered to the Records Office, Postal Service, 475 L'Enfant Plaza, SW., Room 5846, Washington, DC 20260-5353. Copies of all written comments will be available at the above address for public inspection and photocopying between 8 a.m. and 4 p.m., Monday through Friday.

FOR FURTHER INFORMATION CONTACT: Jane Eyre at 202-268-2608.

SUPPLEMENTARY INFORMATION: The Postal Service seeks to provide the public with accurate and efficient mail delivery to the more than 144 million businesses and residences in this country. Given the public nature of the Postal Service, published standards of conduct for Postal Service employees prohibit any employee from engaging in criminal, dishonest, or similar prejudicial conduct. The Postal Service plans to extract records for each current employee (first and last name, city of residence, state, and ZIP™ Code) from its Privacy Act System of Records (USPS 100.400), Personnel Compensation and Payroll Records, and will compare the records with public sex offender records using the NSOPW search tool maintained by the DOJ under the authority of the Walsh Act. The NSOPW search tool accesses databases of public information about individuals who have been required as a matter of law to register on a sexual offender public registry. This comparison program does not constitute a computer matching program, subject to the provisions of the Privacy Act, because the Postal Service is comparing data in its own Privacy Act Systems of Records with publicly available records. Records will not be disclosed to any other agency for purposes of this comparison. Nevertheless, the Postal Service is providing public notice of the proposed program and will conduct the program in the manner described below to ensure that the interests of postal employees are fully protected.

After extensively verifying the accuracy of the information, the Postal Service will use the data to determine whether the reported offenses may impact an individual's suitability for certain positions or employment and to protect the integrity of the Postal Service's brand. The Postal Service will analyze each occurrence on a case-by-case basis to determine the appropriate action to take, if any. In this regard, the Postal Service will consider the seriousness of the offense, the date of the offense, the nature of the employee's position with the Postal Service, and any other factors that may be relevant to the individual case.

The Postal Service will make extensive efforts to ensure that the data is accurate. Postal Inspectors will review the match report in order to verify that the person identified via the NSOPW is in fact a Postal Service employee. A postal inspector will then determine whether the person is properly included on the public registry by reviewing the relevant facts about the offense from information furnished by relevant law enforcement agencies, such as the arresting agency. The postal inspector will refer instances where the employee failed to provide any required notice of the offense to Postal Service management, or other instances considered employee misconduct, to the Office of Inspector General (OIG). The inspector or OIG special agent will prepare an investigative memorandum or report of investigation, respectively, which will be sent to the individual employee's installation head. The installation head will ensure that a case-by-case analysis is conducted regarding the appropriate action to be taken. The Postal Service will provide at least 30 days advance notice prior to the initiation of any adverse action against a matched individual (unless the Postal Service determines that public health or safety may be affected or threatened pursuant to 5 U.S.C. 552a(p)(3)).

The privacy of employees will be safeguarded and protected. The Postal Service will manage all data in strict accordance with the Privacy Act of 1974. Data extracted from the relevant Postal Service System of Records (USPS 100.400) for comparison will not be shared with the DOJ, state agencies, territories, Indian Nations, or any other person or organization, except as authorized by the Privacy Act or required by the Freedom of Information Act. Any verified data that is maintained will be managed within the parameters of the Privacy Act System of Records USPS 700.000, Inspection Service Investigative File System (last published April 29, 2005 (Volume 70, Number 82)); and, for cases referred to the OIG, data that is maintained will also be managed within the parameters of Privacy Act System of Records USPS 700.300, Inspector General Investigative Records (last published June 14, 2006 (Volume 71, Number 114)).

Key privacy features of the data comparison program include the following:

• Requiring that the identity of matched individuals be verified and that the relevant facts of the offense be confirmed;

• Requiring appropriate security controls for the comparison;

• Providing protections for employees who appear as an initial match but who are not subsequently verified as belonging on the state registry of offenders; and

• Requiring the Postal Service to complete the verification and provide at least 30 days advance notice prior to the initiation of any adverse action against a matched individual (unless the Postal Service determines that public health and safety may be affected or threatened pursuant to 5 U.S.C. 552a(p)(3), or as otherwise provided by 5 U.S.C. 7513(b), relevant collective bargaining provisions, and Postal Service regulations).

Neva Watson,
Attorney, Legislative.

[FR Doc. E9-29383 Filed 12-8-09; 8:45 am]

BILLING CODE 7710-12-P